RAILROAD RETIREMENT BOARD

Sunshine Act Meetings

TIME AND DATE: 10 a.m., November 20, 2019.

PLACE: 8th Floor Board Conference Room, 844 North Rush Street, Chicago, Illinois 60611.

STATUS: This meeting will be open to the public.

MATTERS TO BE CONSIDERED:

1. Oversight of the National Railroad Retirement Investment Trust

2. Update from the SCOTUS Working Group

3. Fraud Risk Assessment Committee proposal

4. Ninety day deferral (Concurrent processing of an application for a disability annuity)

5. Update on Chief Medical Officer search

CONTACT PERSON FOR MORE INFORMATION: Stephanie Hillyard, Secretary to the Board, Phone No. 312-751-4920.

Authority: 5 U.S.C. 552b.

Dated: November 6, 2019.
Stephanie Hillyard,
Secretary to the Board.

[FR Doc. 2019-24595 Filed 11-6-19; 4:15 pm]

BILLING CODE 7905-01-P